GENERAL SERVICES ADMINISTRATION

[GSA Bulletin FMR 2008-B4]

Locating Federal Facilities in Rural Areas

AGENCY: General Services Administration.

ACTION: Notice of cancellation of bulletin.

SUMMARY: This bulletin cancels FMR Bulletin 2003-B1, Locating Federal Facilities in Rural Areas. FMR Bulletin 2003-B1 assisted Federal agencies, having their own statutory authority to acquire real property, in complying with the Rural Development Act of 1972. The “rural area” definition is outdated and the revised definition was published in 41 CFR 102-83.55, Rural Areas, Real Property Policies Update, on November 2, 2005. FMR Bulletin 2003-B1 is being cancelled in its entirety to ensure that agencies refer to 41 CFR 102-83.55 for the definition of rural areas. There will be no replacement bulletin for cancelled bulletin FMR 2003-B1, Locating Federal Facilities in Rural Areas.

DATES: Effective Date: January 29, 2008.

FOR FURTHER INFORMATION CONTACT: Stanley C. Langfeld, Director, Regulations Management Division, Office of Governmentwide Policy, 202-501-1737 or stanley.langfeld@gsa.gov.

Dated: January 10, 2008.
Kevin Messner,
Acting Associate Administrator, Office of Governmentwide Policy.

[FR Doc. E8-1518 Filed 1-28-08; 8:45 am]

BILLING CODE 6820-RH-P